DEPARTMENT OF THE INTERIOR

Bureau of Land Management

[LLNV912000.L12200000.PA0000. 9-08807; TAS: 14X1109]

Meeting Schedule for the Sierra Front-Northwestern Great Basin Resource Advisory Council, Nevada

AGENCY: Bureau of Land Management, Interior.

ACTION: Notice of meetings.

SUMMARY: In accordance with the Federal Land Policy and Management Act and the Federal Advisory Committee Act of 1972 (FACA), the Bureau of Land Management (BLM) Sierra Front-Northwestern Great Basin Resource Advisory Council (RAC), Nevada, will hold two meetings in Nevada in 2009. All meetings are open to the public. A general public comment period, where the public may submit oral or written comments to the RAC, will be held on the first day of each two-day meeting at 4 p.m.

DATES: April 29-30, 2009, in Winnemucca and July 22-23, 2009, in Carson City.

FOR FURTHER INFORMATION CONTACT: Mark Struble, Public Affairs Officer, BLM Carson City District Office, 5665 Morgan Mill Road, Carson City, NV 89701. Telephone: (775) 885-6107. E-mail: mark_struble@blm.gov.

SUPPLEMENTARY INFORMATION: The April meeting will be held at the BLM Winnemucca District Office, 5100 East Winnemucca Blvd. The July meeting will be held at the BLM Carson City District Office, 5665 Morgan Mill Road.

Topics for discussion at the meetings will include, but are not limited to, manager's reports of BLM district activities; RAC subcommittee or working group reports; Burning Man event monitoring; Southern Nevada Public Land Management Act Round 10 nominations; Winnemucca District Resource Management Plan Draft Environmental Impact Statement; renewable energy projects; Truckee River restoration efforts; and additional topics the council may raise during the meetings. Final agendas, with any additions or corrections to agenda topics, the starting and ending times of each meeting, and details of any planned field trips, will be posted at least two weeks before each meeting on the BLM Nevada State Office Web site at http://www.blm.gov/nv/st/en/res/resource_advisory/sierra_front-northwestern.html. On request, copies of the agendas can also be mailed or sent via FAX. Individuals needing special assistance such as sign language interpretation or other reasonable accommodations, or those who wish to receive a copy of the agenda, may contact Mark Struble no later than two weeks before the meeting.

Dated: February 17, 2009.
Gene Seidlitz,
Manager, Winnemucca District Office.

[FR Doc. E9-4002 Filed 2-24-09; 8:45 am]

BILLING CODE 4310-HC-P